SMALL BUSINESS ADMINISTRATION

[Disaster Declaration # 10031]

Kentucky Disaster Number KY-00001

AGENCY: U.S. Small Business Administration.

ACTION: Amendment 1.

SUMMARY: This is an amendment of the Presidential declaration of a major disaster for Public Assistance Only for the State of Kentucky (FEMA-1578-DR), dated 02/08/2005.

Incident: Severe Winter Storm and Record Snow.

Incident Period: 12/21/2004 through 12/23/2004.

DATES: Effective Date: 03/10/2005.

Physical Loan Application Deadline Date: 04/11/2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the President's major disaster declaration for Private Non-Profit organizations in the State of Kentucky dated 02/08/2005, is hereby amended to include the following areas as adversely affected by the disaster.

Primary Counties:

Marshall

Todd

Trigg

All other information in the original declaration remains unchanged.

(Catalog of Federal Domestic Assistance Number 59008)
Herbert L. Mitchell,
Associate Administrator for Disaster Assistance.

[FR Doc. 05-6574 Filed 4-1-05; 8:45 am]

BILLING CODE 8025-01-P